NUCLEAR REGULATORY COMMISSION

Advisory Committee on Nuclear Waste; Notice of Meeting

The Advisory Committee on Nuclear Waste (ACNW) will hold its 117th meeting on February 23-25, 2000, Room 2D Large Conference, Arnold & Mabel Beckman Center of the National Academies, 100 Academy Drive, Irvine, California.

The entire meeting will be open to public attendance.

The schedule for this meeting is as follows:

Wednesday, February 23, 2000—8:30 a.m. Until 5:00 p.m.

8:30 a.m.-12:00 Noon: Self-Assessment-The Committee will conduct a self assessment. The Committee will review the goals set in its 1999 Action Plan, and compare those goals to its accomplishments. The Committee will examine steps it can take to increase its operational efficiency.

1:30 p.m.-2:30 p.m.: Guest Speaker—The Committee will hear a lecture by Dr. Stan Kaplan on the use of probability.

2:45 p.m.-5:00 p.m.: Priorities—The Committee will begin to outline possible issues for consideration in 2000 and beyond.

Thursday, February 24, 2000-8:30 a.m. Until 4:00 p.m.

8:30 a.m.-9:30 a.m.: Review Mission, Vision, Desired Outcomes, Goals and Objectives.

9:30 a.m.-10:30 a.m.: First Tier Priorities—Select First Tier Priority issues for the year 2000 Action Plan.

10:45 a.m.-12:00 Noon: Second Tier Priorities—Select Second Tier Priority issues for the year 2000 Action Plan.

1:30 p.m.-2:30 p.m.: Guest Speaker—The Committee will hear a lecture on waste minimization.

2:45 p.m.-3:30 p.m.: Operational Issues—The Committee will focus on issues to increase operational effectiveness.

3:30 p.m.-4:00 p.m.: Succession Planning—The Committee will focus on succession planning for members and staff over the next five years.

Friday, February 25, 2000-8:30 a.m. Until 3:00 p.m.

8:30 a.m.-10:30 a.m.: ACNW Planning and Procedures—The Committee will consider topics proposed for future consideration by the full Committee and Working Groups. The Committee may also discuss ACNW-related activities of individual members.

10:45 a.m.-2:30 p.m.: Preparation of ACNW Reports—The Committee will discuss planned reports on the following topics: NRC's proposed high-level waste regulation, the Defense-in-Depth philosophy, the release of solid material (tentative), and the Department of Energy's Yucca Mountain specific siting guidelines (tentative).

2:30 p.m.-3:00 p.m.: Miscellaneous—The Committee will discuss miscellaneous matters related to the conduct of Committee and organizational activities and complete discussion of matters and specific issues that were not completed during previous meetings, as time and availability of information permit.

Procedures for the conduct of and participation in ACNW meetings were published in the Federal Register on September 28, 1999 (64 FR 52352). In accordance with these procedures, oral or written statements may be presented by members of the public, electronic recordings will be permitted only during those portions of the meeting that are open to the public, and questions may be asked only by members of the Committee, its consultants, and staff. Persons desiring to make oral statements should notify Richard K. Major, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Major as to their particular needs.

Further information regarding topics to be discussed, whether the meeting has been canceled or rescheduled, the Chairman's ruling on requests for the opportunity to present oral statements and the time allotted therefore can be obtained by contacting Mr. Richard K. Major, ACNW (Telephone 301/415-7366), between 8:00 A.M. and 5:00 P.M. EST. ACNW meeting notices, meeting transcripts, and letter reports are now available for downloading or reviewing on the internet at http://www.nrc.gov/ACRSACNW.

Dated: January 28, 2000.
Annette Vietti-Cook,
Acting Advisory Committee Management Officer.

[FR Doc. 00-2386 Filed 2-2-00; 8:45 am]

BILLING CODE 7590-01-P